FEDERAL RETIREMENT THRIFT INVESTMENT BOARD

Sunshine Act; Notice of Meeting

Time and Date: 9 a.m. (Eastern Time) May 22, 2007.

Place: 4th Floor Conference Room, 1250 H Street, NW., Washington, DC 20005.

Status: Parts will be open to the public and parts closed to the public.

Matters To Be Considered:

Parts Open to the Public

1. Approval of the minutes of the April 16, 2007 Board member meeting.

2. Thrift Savings Plan activity report by the Executive Director.

a. Monthly Participant Activity Report.

b. Monthly Investment Performance Report.

c. Legislative Report.

3. Old Business.

a. Annual Statement.

b. Dormant Accounts.

c. Automatic Enrollment & Roth Update.

Parts Closed to the Public

4. Security.

Contact Person for More Information: Thomas J. Trabucco, Director, Office of External Affairs, (202) 942-1640.

Dated: May 14, 2007.
Thomas K. Emswiler,
Secretary to the Board, Federal Retirement Thrift Investment Board.

[FR Doc. 07-2440 Filed 5-14-07; 12:03 pm]

BILLING CODE 6760-01-P